SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new and revised information collections and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, Fax: (202) 395-6974.

(SSA), Social Security Administration, DCFAM, Attn: Reports Clearance Officer, 1338 Annex Building, 6401 Security Blvd., Baltimore, MD 21235, Fax: (410) 965-6400.

I. The information collection listed below is pending at SSA and will be submitted to OMB within 60 days from the date of this notice. Therefore, your comments should be submitted to SSA within 60 days from the date of this publication. You can obtain copies of the collection instrument by calling the SSA Reports Clearance Officer at (410) 965-0454 or by writing to the address listed above.

National Direct Deposit Initiative—31 CFR 210—0960-NEW. Many recipients of SSA's benefits choose to receive their payments via the Direct Deposit Program, in which funds are transferred directly into recipients' accounts at a financial institution (FI). However, 8 million Title II payment recipients still receive their payments through traditional paper checks. In an effort to encourage these beneficiaries to change from paper checks to the Direct Deposit Program, SSA is collaborating with the Department of the Treasury and several FIs to implement the National Direct Deposit Initiative. In this program, SSA will work with FIs to determine which of the target 8 million Title II beneficiaries have accounts at the participating banks. The banks will then send forms to these beneficiaries encouraging them to enroll in the Direct Deposit Program. The respondents are the participating FIs and Title II beneficiaries currently receiving their payments via check.

Type of Request: New information collection.

Respondents | Title II payment recipients | Financial institutions (banks) | Totals
Information Collection Requirements | Direct Deposit Enrollment Form | Data screening/matching; SSA's data management requirements
Number of Respondents | 500,000 | 12 | 512,000
Frequency of Response | 1 | 1.
Average Burden per Response (minutes) | 2 | 240.
Estimated Annual Burden (hours) | 16,667 | 48 | 16,715
Cost Requirement | N/A | Printing and mailing of 300,000 enrollment forms
Estimated Cost Burden per Respondent | N/A | $2,462.
Total Annual Cost Burden | N/A | $29,544 | $29,544

II. The information collections listed below have been submitted to OMB for clearance. Your comments on the information collections would be most useful if received by OMB and SSA within 30 days from the date of this publication. You can obtain a copy of the OMB clearance packages by calling the SSA Reports Clearance Officer at 410-965-0454, or by writing to the address listed above.

Note: Please note that this collection was erroneously published as a 60-day Federal Register Notice on Monday, April 25, 2005, at 70 FR 8125. It should have been published as a 30-day Federal Register Notice. Comments should be submitted within 30 days of publication.

The Ticket To Work and Self-Sufficiency Program—20 CFR 411.160-.730—0960-0644

The Ticket to Work and Self-Sufficiency program allows individuals with disabilities who are receiving disability payments to work towards decreased dependence on government cash benefits programs without jeopardizing their benefits during the transition period to employment. The program allows disability payment recipients to choose a provider from an employment network (EN), who will guide these beneficiaries in obtaining, regaining, and maintaining self-supporting employment. 20 CFR 411.160-.730 of the Code of Federal Regulations discusses the rules governing this program. The respondents are individuals entitled to Social Security benefits based on disability or individuals entitled to SSI based on disability; program managers; EN contractors; and State vocational rehabilitation agencies.

Type of Request: Extension of an OMB-approved information collection.

CFR sections | Number of respondents | Frequency of response | Average burden per response (minutes) | Estimated annual burden (hours)
411.140(c) [X-refer sections 411.145, 411.150, 411.325(a), (b), (c), & (d), 411.320(f)] | 70,000 | 2/year | 60 | 140,000
411.325(e) [X-refer section 411.395(b)] | 70,000 | 12/year | 60 | 840,000
411.325(f) [X-refer section 411.395(a)] | 60,000 | 1/year | 5 | 5,000
411.190(a) [X-refer section 411.195] | 250 | 1/year | 30 | 125
411.220(a)(1) | 55 | Varies | 30 | 28
441.245(b)(1) | 12,000 | 1 | 1 | 200
411.325(d) | 25 | 1 | 480 | 200
411.365 | 82 | 1 | 240 | 328
411.575 [X-refer section 411.500] | 6,000 | 1 | 30 | 3,000
411.605(b) [X-refer section 411.610] | 27,000 | Varies | 5 | 2,250
411.435(c) | 100 | Once | 60 | 100
411.615 | 1,000 | Once | 60 | 1,000
411.625 | 50 | Once | 60 | 50
411.210(b) | 2,000 | Once | 30 | 1,000
411.590(b) | 100 | Once | 60 | 100
411.655 | 1 | Once/year | 120 | 2
411.200 | 150 | 1/monthly | 15 | 450
Total annual respondents | 248,813 |  | Total Annual Burden Hours | 993,833

Dated: May 6, 2005.
James Craig Hartson,
Reports Clearance Officer, Social Security Administration.

[FR Doc. 05-9461 Filed 5-12-05; 8:45 am]

BILLING CODE 4191-02-P